DEPARTMENT OF LABOR

Employment and Training Administration

[TA-W-70,805]

Honeywell International, Aerospace Avionics, Including On-Site Leased Workers From Manpower and PDS Tech, Inc., Deer Valley, Phoenix, AZ; Amended Certification Regarding Eligibility To Apply for Worker Adjustment Assistance

In accordance with Section 223 of the Trade Act of 1974, as amended (“Act”), 19 U.S.C. 2273, the Department of Labor issued a Certification of Eligibility to Apply for Worker Adjustment Assistance on August 20, 2009, applicable to workers of Honeywell International Aerospace Avionics including on-site leased workers of Manpower, Deer Valley, Phoenix, Arizona. The notice was published in the Federal Register on September 22, 2009 (74 FR 48301).

At the request of a company official, the Department reviewed the certification for workers of the subject firm. The workers are engaged in activities related to the production of avionics.

The company reports that on-site leased workers from PDS Tech, Inc. were employed on-site at the Deer Valley, Phoenix, Arizona location of Honeywell International Aerospace Avionics. The Department has determined that these workers were sufficiently under the control of the subject firm to be considered leased workers.

Based on these findings, the Department is amending this certification to include workers leased from PDS Tech, Inc. working on-site at the Deer Valley, Phoenix, Arizona location of Honeywell International Aerospace Avionics.

The amended notice applicable to TA-W-70,805 is hereby issued as follows:

All workers of Honeywell International, Aerospace Avionics, including on-site leased workers of Manpower and PDS Tech. Inc., Deer Valley, Phoenix, Arizona, who became totally or partially separated from employment on or after May 18, 2008, through August 20, 2011, and all workers in the group threatened with total or partial separation from employment on date of certification through two years from the date of certification, are eligible to apply for adjustment assistance under Chapter 2 of Title II of the Trade Act of 1974, as amended.

Signed in Washington, DC, this 19th day of November 2009.
Richard Church,
Certifying Officer, Division of Trade Adjustment Assistance.

[FR Doc. E9-29153 Filed 12-7-09; 8:45 am]

BILLING CODE 4510-FN-P